DEPARTMENT OF TRANSPORTATION

Federal Railroad Administration

Petition for Waiver of Compliance

In accordance with Part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

Chesapeake and Indiana Railroad Company

[Waiver Docket Number FRA-2006-25793]

The Chesapeake and Indiana Railroad Company (CKIN) seeks a permanent waiver of compliance from Control of Alcohol and Drug Use, 49 CFR Part 219 Subparts D through J, which requires a railroad to conduct reasonable suspicion alcohol and/or drug testing, pre-employment drug testing, random alcohol and drug testing, and to have voluntary referral and coworker report policies, and which also specify drug and alcohol testing procedures and record-keeping requirements. CKIN has less than 16 hours of service employees and previously had no joint operations until the Hoosier Valley Railroad Museum (HVRM) recently began operation of tourist trains on 5 to 10 miles of the 33 miles of track owned by the Incorporated Town of North Judson, Indiana, between North Judson and LaCrosse, Indiana. CKIN conducts freight operations on 23 miles of this 33-mile rail line; however, the only common track use would be a wye track in LaCrosse. HVRM's tourist train operations are normally conducted on weekends and do not operate at the same time as the CKIN freight trains.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-25793) and must be submitted to the Docket Clerk, DOT Central Docket Management Facility, Room PL-401, 400 7th Street, SW., Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC on October 4, 2006.
Grady C. Cothen, Jr.,
Deputy Associate Administrator, for Safety Standards and Program Development.

[FR Doc. E6-16695 Filed 10-6-06; 8:45 am]

BILLING CODE 4910-06-P